DEPARTMENT OF TRANSPORTATION

Federal Aviation Administration

14 CFR Part 39

[Docket No. FAA-2004-19616; Directorate Identifier 2004-CE-38-AD; Amendment 39-14058; AD 2005-08-06]

RIN 2120-AA64

Airworthiness Directives; CENTRAIR 101 Series Gliders

AGENCY: Federal Aviation Administration, DOT.

ACTION: Final rule; correction.

SUMMARY: This document incorporates corrections to clarify the intent of Airworthiness Directive (AD) 2005-08-06, which was published in the Federal Register on April 19, 2005 (70 FR 20271). AD 2005-08-06 applies to all CENTRAIR 101 series gliders. This action clarifies the applicability to point out that the affected hinge pins were installed at manufacturer on serial numbers 101A600 through 101A637 and could be replaced on other serial number gliders with hinge pins that Centrair delivered between February 20, 1995, and February 28, 2001. We are re-issuing the AD in its entirety to help eliminate any confusion that this AD may have created.

DATES: Effective Date: The effective date of this AD remains June 2, 2005.

ADDRESSES: To get the service information identified in this AD, contact CENTRAIR, Aerodome B.P.N. 44, 36300 Le Blanc, France; telephone: 02.54.37.07.96; facsimile: 02.54.37.48.64. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-001 or on the Internet at http://dms.dot.gov. The docket number is FAA-2004-19089.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Discussion

On April 11, 2005, FAA issued AD 2005-08-06, Amendment 39-14058 (70 FR 20271, April 19, 2005), which applies to all CENTRAIR 101 series gliders. That AD requires you to replace any installed elevator or aileron hinge pins that are not P/N SY991A hinge pins with P/N SY991A pins.

Need for the This Action

The intent of including all serial numbers was to affect those hinge pins that:

1. Were installed at manufacturer on serial numbers 101A600 through 101A637; and

2. Could be replaced on other serial number gliders with hinge pins that Centrair delivered between February 20, 1995, and February 28, 2001.

Consequently, we are clarifying and re-issuing the AD in its entirety to help eliminate any confusion that this AD may have created.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-08-06 Centrair: Amendment 39-14058; Docket No. FAA-2004-19616; Directorate Identifier 2004-CE-38-AD.

When Does This AD Become Effective?

(a) The effective date of this AD (2005-08-06) remains June 2, 2005.

What Other ADs Are Affected by This Action?

(b) None.

What Gliders Are Affected by This AD?

(c) This AD affects Models 101, 101A, 101AP, and 101P gliders, serial numbers as specified below, that are certificated in any catergory:

(1) Serial numbers 101A600 through 101A637 where the original manufacturer's hinge pins are installed; and

(2) All gliders that had hinge pins replaced with hinge pins that Centrair delivered between February 20, 1995, and February 28, 2001.

What Is the Unsafe Condition Presented in This AD?

(d) This AD is the result of mandatory continuing airworthiness information (MCAI) issued by the airworthiness authority for France. The actions specified in this AD are intended to replace incorrectly heat-treated elevator or aileron hinge pins, which could result in failure of the elevator or ailerons. Such failure during takeoff, landing, or flight operations could lead to loss of glider control.

(e) To address this problem, you must do the following:

Actions | Compliance | Procedures
(1) For serial numbers 101A600 through 101A637 where the original manufacturer's hinge pins are installed and all gliders that had hinge pins replaced with hinge pins that Centrair delivered between February 20, 1995, and February 28, 2001: replace the hinge pins with part number (P/N) SY991A hinge pins | Within the next 25 hours time-in-service (TIS) after June 2, 2005 (the effective date of this AD), unless already done | Follow Société Nouvelle Centrair Service Bulletin No. 101-22, dated March 13, 2001.
(2) For all serial numbers: Do not install any elevator and aileron hinge pins that are not P/N SY991A hinge pins | As of June 2, 2005 (the effective date of this AD) | Not Applicable.

May I Request an Alternative Method of Compliance?

(f) You may request a different method of compliance or a different compliance time for this AD by following the procedures in 14 CFR 39.19. Unless FAA authorizes otherwise, send your request to your principal inspector. The principal inspector may add comments and will send your request to the Manager, Small Airplane Directorate, FAA. For information on any already approved alternative methods of compliance, contact Greg Davison, Aerospace Engineer, FAA, Small Directorate, 901 Locust, Room 301, Kansas City, Missouri 64106; telephone: (816) 329-4130; facsimile: (816) 329-4090.

Is There Other Information That Relates to This Subject?

(g) French AD Number 2001-247(A), dated June 27, 2001, also addresses the subject of this AD.

Does This AD Incorporate Any Material by Reference?

(h) You must do the actions required by this AD following the instructions in Société Nouvelle Centrair Service Bulletin No. 101-22, dated March 13, 2001. The Director of the Federal Register approved the incorporation by reference of this service bulletin in accordance with 5 U.S.C. 552(a) and 1 CFR part 51. To get a copy of this service information, contact CENTRAIR, Aerodome B.P.N. 44, 36300 Le Blanc, France; telephone: 02.54.37.07.96; facsimile: 02.54.37.48.64. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19616.

Issued in Kansas City, Missouri, on May 3, 2005.
Kim Smith,
Acting Manager, Small Airplane Directorate, Aircraft Certification Service.

[FR Doc. 05-9271 Filed 5-9-05; 8:45 am]

BILLING CODE 4910-13-P